ENVIRONMENTAL PROTECTION AGENCY

[FRL OP-OFA-143]

Environmental Impact Statements; Notice of Availability

Responsible Agency: Office of Federal Activities, General Information 202-564-5632 or https://www.epa.gov/nepa.

Weekly receipt of Environmental Impact Statements (EIS)

Filed August 30, 2024 10 a.m. EST Through September 9, 2024 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20240162, Draft, BLM, NV, Greenlink North Transmission Project, Comment Period Ends: 12/11/2024, Contact: Brian L. Buttazoni 775-861-6491.

Dated: September 9, 2024.
Timothy Witman,
Acting Director, NEPA Compliance Division, Office of Federal Activities.

[FR Doc. 2024-20825 Filed 9-12-24; 8:45 am]

BILLING CODE 6560-50-P